DEPARTMENT OF ENERGY

Energy Information Administration

American Statistical Association Committee on Energy Statistics

AGENCY: Department of Energy.

ACTION: Notice of open meeting.

SUMMARY: This notice announces a meeting of the American Statistical Association Committee on Energy Statistics with management and staff of the Energy Information Administration. The Federal Advisory Committee Act (Pub. L. 92-463,86 Stat. 770) requires that public notice of this meeting be announced in the Federal Register.

DATES: Thursday, April 28, 2005, 8:30 a.m.-5 p.m. Friday, April 29, 2005, 8:30 a.m.-12 noon.

ADDRESSES: U.S. Department of Energy, Room 8E-089, 1000 Independence Ave., SW., Washington, DC 20585.

FOR FURTHER INFORMATION CONTACT: Mr. William I. Weinig, EI-70, Advisory Committee Manager, Energy Information Administration, U.S. Department of Energy, 1000 Independence Ave., SW., Washington, DC 20585. Telephone: (202) 287-1709. Alternately, Mr. Weinig may be contacted by e-mail at william.weinig@eia.doe.gov or by fax at (202) 287-1705.

Purpose of the Committee: To advise the Department of Energy, Energy Information Administration (EIA), on EIA technical statistical issues and to enable the EIA to benefit from the Committee's experience.

Tentative Agenda:

Thursday, April 28, 2005.

A. Opening Remarks by the ASA Committee Chair, the EIA Administrator and the Director, Statistics and Methods Group, EIA. Room 8E-089

B. Major Topics (Room 8E-089 unless otherwise noted)

1. Open Meeting.

2. Greetings and Remarks.

3. Updates for the Committee Since the Fall 2004, Meeting.

4. Regionalizing the Short-Term Energy Outlook (STEO) Forecast.

5. STEO Performance Indicators: Diagnostics and Forecast Errors.

6. STEO Electricity Modeling.

7. Bureau of Census Frames Comparisons (5E-069).

8. Invitation for Public Comments.

9. STEO Propane and Heating Oil Modules.

10. EIA's New Web site Design: Hands-On Usability Testing (BE-074).

11. Frames: What We Did, Our Results and Questions on What Next.

12. Residential Energy Consumption Survey (RECS): EIA's Proposed Reactions to Declining Response Rates.

13. Invitation for Public Comments.

14. Adjourn the Thursday Meeting.

Friday, April 29, 2005.

C. Major Topics

1. Assessments: Presentations and a Panel Discussion: External Review of Survey Progress; External Review of EIA Progress; Discussion: Where Next?

2. Progress on EIA's 914: Response Rate and Kinds of Challenges.

3. Estimate EIA's 826 Since the Last Time: Differences, Estimation Groups, Outliers and Test Results, Room 5E-069.

4. Committee Suggestions for the Fall 2005 Meeting.

5. Invitation for Public Comments.

6. Closing Remarks by the ASA Committee Chair.

Public Participation: The meeting is open to the public. The Chair of the Committee is empowered to conduct the meeting in a fashion that will facilitate the orderly conduct of business. Written statements may be filed with the committee either before or after the meeting. If there are any questions, please contact Mr. William I. Weinig, Advisory Committee Manager, at the address or telephone number listed above.

Minutes: A Meeting Summary and Transcript will subsequently be available through Mr. Weinig who may be contacted at (202) 287-1709 or by e-mail at william.weinig@eia.doe.gov.

Issued at Washington, DC, on March 29, 2005.
Carol Matthews,
Acting Advisory Committee Officer.

[FR Doc. 05-6594 Filed 4-1-05; 8:45 am]

BILLING CODE 6450-01-P